DEPARTMENT OF COMMERCE

International Trade Administration

(A-428-825)

Stainless Steel Sheet and Strip in Coils From Germany: Notice of Rescission of Antidumping Duty Administrative Review

AGENCY: Import Administration, International Trade Administration, Department of Commerce.

SUMMARY: The Department of Commerce (the Department) is rescinding its administrative review of the antidumping duty order on stainless steel sheet and strip in coils from Germany for the period July 1, 2005 to June 30, 2006.

EFFECTIVE DATE: October 17, 2006.

FOR FURTHER INFORMATION CONTACT: Tyler R. Weinhold, Deborah Scott, or Robert James at (, AD/CVD Operations, Office 7, Import Administration, International Trade Administration, U.S. Department of Commerce, 14th Street and Constitution Avenue NW, Washington, DC 20230; Telephone: (202) 482-2657 and (202) 482-0649, respectively.

SUPPLEMENTARY INFORMATION:

Background

On July 3, 2006, the Department published in the Federal Register its notice of opportunity to request an administrative review of the antidumping duty order on stainless steel sheet and strip in coils from Germany. See Antidumping of Countervailing Duty Order, Finding, or Suspended Investigation; Opportunity to Request Administrative Review, 71 FR 37890 (July 3, 2006). In response, on July 31, 2006, German producers ThyssenKrupp Nirosta GmbH (“ThyssenKrupp Nirosta”), ThysssenKrupp Nirosta Prazisionsband GmbH (“TKNP”), ThyssenKrupp VDM GmbH (“TKVDM”) (collectively, “TKN”), along with their affiliated U.S. importers ThyssenKrupp Nirosta North America, Inc. (“TKNNA”) and ThyssenKrupp VDM USA, Inc. (“TKVDMUSA”) requested an administrative review of the antidumping duty order on stainless steel sheet and strip in coils from Germany for the period of review July 1, 2005, through June 30, 2006. Petitioners in this case did not request an administrative review. On August 30, 2006, the Department initiated an administrative review of TKN. See Initiation of Antidumping and Countervailing Duty Administrative Reviews and Requests for Revocation in Part, 71 FR 51573 (August 30, 2006). On September 19, 2006, TKN submitted a letter withdrawing their request for an administrative review. See letter from TKN dated September 19, 2006.

Rescission of Review

Section 351.213(d)(1) of the Department's regulations provides that the Department will rescind an administrative review if the party that requested the review withdraws its request for review within 90 days of the date of publication of the notice of initiation of the requested review, or withdraws at a later date if the Department determines it is reasonable to extend the time limit for withdrawing the request. In response to TKN's withdrawal of their request for an administrative review, the Department hereby rescinds the administrative review of the antidumping duty order on stainless steel sheet and strip in coils from Germany for the period July 1, 2005 through June 30, 2006.

The Department will issue appropriate assessment instructions directly to U.S. Customs and Border Protection (CBP) within 15 days of the publication of this notice. The Department will direct CBP to assess antidumping duties for TKN at the cash deposit rate in effect on the date of entry for entries during the period July 1, 2005, through June 30, 2006.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This notice is published in accordance with section 777(i)(1) of the Tariff Act of 1930, as amended, and 19 CFR 351.213(d)(4).

Dated: October 10, 2006.
Stephen J. Claeys,
Deputy Assistant Secretary for Import Administration.

[FR Doc. E6-17269 Filed 10-16-06; 8:45 am]

BILLING CODE 3510-DS-S